FEDERAL TRADE COMMISSION

16 CFR Parts 801 and 803

RIN 3084-AB46

Premerger Notification; Reporting and Waiting Period Requirements

AGENCY: Federal Trade Commission.

ACTION: Final rule; correction.

SUMMARY: The Federal Trade Commission (“Commission”) published a document in the Federal Register of January 30, 2023, concerning the Hart-Scott-Rodino (“HSR”) Premerger Notification Rules (“Rules”). Pending publication, Commission staff learned the document did not include certain explanatory language pursuant to the Administrative Procedure Act. The Commission is issuing this correction to incorporate this language.

DATES: Effective February 27, 2023.

FOR FURTHER INFORMATION CONTACT: Robert Jones, Assistant Director, Premerger Notification Office, Bureau of Competition, Federal Trade Commission, 400 7th Street SW, Room CC-5301, Washington, DC 20024, or by telephone at (202) 326-3100, Email: rjones@ftc.gov.

SUPPLEMENTARY INFORMATION: The Commission is correcting its regulations published in the final rule “Premerger Notification; Reporting and Waiting Period Requirements” on January 30, 2023.

In FR Rule Doc. No. 2023-01584, appearing on page 5748 in the Federal Register issue of Monday, January 30, 2023, the following correction is made:

1. In the SUPPLEMENTARY INFORMATION section, on page 5749, in the third column, add the following language after the fourth paragraph of section V. Administrative Procedure Act:

* * * * *

Separately, the Commission finds that there is good cause under 5 U.S.C. 553(d)(3) for this final rule to become effective on February 27, 2023. Section 553(d)(3) of the APA allows an effective date of less than 30 days after publication “as otherwise provided by the agency for good cause found and published with the rule.” 5 U.S.C. 553(d)(3). The purpose of the 30-day waiting period prescribed in APA section 553(d)(3) is to give affected parties a reasonable time to adjust their behavior and prepare before the final rule takes effect. This final rule conforms with the new fee tiers and fees enacted by Congress on December 29, 2022—more than 30 days ago. In addition, the public interest is served by having the effective date of this final rule be the same as the effective date announced in the notice of revised jurisdictional thresholds published at 88 FR 5004, and thereby avoiding confusion about the relevant effective date.

* * * * *

Dated: February 2, 2023.
April J. Tabor,
Secretary.

[FR Doc. 2023-02590 Filed 2-7-23; 8:45 am]

BILLING CODE 6750-01-P